DEPARTMENT OF TRANSPORTATION

Office of the Secretary

Aviation Proceedings, Agreements Filed the Week Ending November 6, 2010

The following Agreements were filed with the Department of Transportation under the Sections 412 and 414 of the Federal Aviation Act, as amended (49 U.S.C. 1382 and 1384) and procedures governing proceedings to enforce these provisions. Answers may be filed within 21 days after the filing of the application.

Docket Number: DOT-OST-2010-0275.

Date Filed: November 4, 2010.

Parties: Members of the International Air Transport Association.

Subject: Mail Vote 649—Resolution 010f. TC3 Within South East Asia Special Passenger Amending Resolution 010f Fares between Chinese Taipel and Viet Nam Memo 1411. Intended effective date: 15 November 2010.

Renee V. Wright,
Program Manager, Docket Operations, Federal Register Liaison.

[FR Doc. 2010-31704 Filed 12-16-10; 8:45 am]

BILLING CODE 4910-9X-P